DEPARTMENT OF VETERANS AFFAIRS

Findings of Research Misconduct

AGENCY: Department of Veterans Affairs.

ACTION: Notice.

SUMMARY: The Veterans Health Administration (VHA), Department of Veterans Affairs (VA), gives notice that the Department has made findings of research misconduct against Alba Chavez-Dozal, Ph.D., a former employee of the New Mexico VA Health Care System in Albuquerque, New Mexico.

FOR FURTHER INFORMATION CONTACT: Research Misconduct Officer, Office of Research Oversight, 10R, Veterans Health Administration, Department of Veterans Affairs, 810 Vermont Avenue NW, Washington, DC 20420, (202) 632-7620. This is not a toll free number.

SUPPLEMENTARY INFORMATION: The Veterans Health Administration (VHA), Department of Veterans Affairs (VA), gives notice under VHA Handbook 1058.02 “Research Misconduct” § 6k, that the Department has made findings of research misconduct against Alba Chavez-Dozal, Ph.D., a former employee of the New Mexico VA Health Care System in Albuquerque, New Mexico.

Specifically, the Department found that the Respondent, a post-doctoral research fellow who formerly held a VA without compensation appointment, engaged in research misconduct by intentionally and/or knowingly:

(1) Recording fabricated data that described the generation and characterization of an END3 mutant yeast strain and presenting that data at two lab meetings;

(2) Fabricating the image of a Southern blot reported in Figure 1A of a journal article titled “Functional Analysis of the Exocyst Subunit Sec15 in Candida albicans” published in Eukaryot Cell (2015) 14:1228-39. (Retraction in: Eukaryot Cell (2015) 14(12):ii);

(3) Falsifying research results by using the same protein gel to represent two different experiments: A degradation assay utilizing the SEC15 mutant in Figure 6A of the publication Eukaryot Cell (2015) 14:1228-39 and a degradation assay utilizing the SEC6 mutant in Figure 9A of a journal article titled “The Candida albicans Exocyst Subunit Sec6 Contributes to Cell Wall Integrity and is a Determinant of Hyphal Branching” published in Eukaryot Cell (2015) 14:684-97. (Retraction in: Eukaryot Cell (2015) 14(12):i);

(4) Falsifying research results reported in Figures 4A (vacuole characterization), 6 (cell growth) and 9B (lipase secretion) of the publication Eukaryot Cell (2015) 14:684-97 by using images that represent different conditions than those reported;

(5) Falsifying protein localization results reported in Figures 7, 8 and 9 of the publication Eukaryot Cell (2015) 14:1228-39 by using microscopy images that represent different conditions than those reported; and

(6) Republishing falsified data from Eukaryot Cell (2015) 14:684-97 and Eukaryot Cell (2015) 14:1228-39 in the review article titled “The exocyst in Candida albicans polarized secretion and filamentation” in Curr Genet (2016) 62:343-6. (Retraction in: Curr Genet (2016) 62:911).

In response to these findings, the Department has imposed the following corrective actions:

(1) Prohibition from conducting VA research for four years.

(2) Publication of VA's finding of research misconduct.

Signing Authority

The Secretary of Veterans Affairs, or designee, approved this document and authorized the undersigned to sign and submit the document to the Office of the Federal Register for publication electronically as an official document of the Department of Veterans Affairs. Jacquelyn Hayes-Byrd, Acting Chief of Staff, Department of Veterans Affairs, approved this document on June 27, 2018, for publication.

Dated: July 18, 2018.
Jeffrey M. Martin,
Impact Analyst, Office of Regulation Policy & Management, Office of the Secretary, Department of Veterans Affairs.

[FR Doc. 2018-15762 Filed 7-23-18; 8:45 am]

BILLING CODE 8320-01-P